FEDERAL RESERVE SYSTEM

Privacy Act of 1974; System of Records

AGENCY: Board of Governors of the Federal Reserve System.

ACTION: Notice of a New System of Records.

SUMMARY: Pursuant to the provisions of the Privacy Act of 1974, notice is given that the Board of Governors of the Federal Reserve System (Board) proposes to establish a new system of records, BGFRS-43, “FRB—Security Sharing Platform.”

DATES: Comments must be received on or before May 1, 2020. This new system of records will become effective May 1, 2020, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-43 “FRB—Security Sharing Platform,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically or in paper in Room 146, 1709 New York Avenue NW, Washington, DC 20006, between 9:00 a.m. and 5:00 p.m. on weekdays.

FOR FURTHER INFORMATION CONTACT: David B. Husband, Counsel, (202) 530-6270, or david.b.husband@frb.gov; Legal Division, Board of Governors of the Federal Reserve System, 20th Street and Constitution Avenue NW, Washington, DC 20551.

SUPPLEMENTARY INFORMATION: The new system of records, BGFRS-43, maintains records relating to the Security Sharing Platform that will allow the Board and the twelve Federal Reserve Banks (collectively, “the Federal Reserve System”) to share information regarding individuals who are involved in incidents or events that may affect the safety and security of the premises, grounds, property, personnel, and operations of the Federal Reserve System.

SYSTEM NAME AND NUMBER:

BGFRS-43, “FRB—Security Sharing Platform”

SECURITY CLASSIFICATION:

Unclassified.

SYSTEM LOCATION:

Board of Governors of the Federal Reserve System, 20th Street and Constitution Avenue NW, Washington, DC 20551. Some information is collected and maintained on behalf of the Board by one or more of the Federal Reserve Banks.

SYSTEM MANAGER(S):

Curtis Eldridge, Associate Director and Chief, Law Enforcement Unit, Management Division, Board of Governors of the Federal Reserve System, 20th Street and Constitution Avenue NW, Washington, DC 20551, 202-912-7835, or Curtis.b.eldridge@frb.gov.

AUTHORITY FOR MAINTENANCE OF THE SYSTEM:

Section 11 of the Federal Reserve Act (12 U.S.C. 248(q)).

PURPOSE(S) OF THE SYSTEM:

These records are collected and maintained to aid in efforts to protect and safeguard the premises, grounds, property, personnel, and operations of the Federal Reserve System.

CATEGORIES OF INDIVIDUALS COVERED BY THE SYSTEM:

Individuals who exhibit suspicious behavior, which Federal Reserve System law enforcement personnel have reasonable suspicion to believe may affect the safety and security of the premises, grounds, property, personnel, and operations of the Board or one or more of the Federal Reserve Banks.

CATEGORIES OF RECORDS IN THE SYSTEM:

Records in the system include identifying information relating to incidents or events that may affect the safety and security of the premises, grounds, property, personnel, or operations of the Board or the Federal Reserve Banks, which may include individuals who are the subject of such incidents or events. Information about individuals in the system may include, but is not limited to, name, address, organization, title, telephone number, identification number(s), date of birth, occupation, photographs or videos, physical characteristics, and other information that may be provided by the individual or collected by Board or Federal Reserve Bank personnel.

RECORD SOURCE CATEGORIES:

Information is provided by various sources, including the individual to whom the record pertains; personal identification documents; notes from interviews with the individual and supporting documentation; reports created by the Board or the respective Federal Reserve Bank; law enforcement and other federal, state, local, or foreign government agency records and personnel; social media; or other documents received by the Board or a Federal Reserve Bank.

ROUTINE USES OF RECORDS MAINTAINED IN THE SYSTEM, INCLUDING CATEGORIES OF USERS AND PURPOSES OF SUCH USES:

General routine uses C, D, G, I, and J apply to this system. These general routine uses are located at https://www.federalreserve.gov/files/SORN-page-general-routine-uses-of-board-systems-of-records.pdf and are published in the Federal Register at 83 FR 43872 at 43873-74 (August 28, 2018). The system also has a specific routine use, developed in order to permit necessary sharing that is essential to the purpose of the system. Under this use, records may also be disclosed to personnel of federal, state, local, or foreign law enforcement agencies in the following circumstances:

a. For the purpose of developing information regarding individuals, incidents, or events that may affect the safety and security of the premises, grounds, property, personnel, or operations of the Board or one or more of the Federal Reserve Banks;

b. For the purpose of intelligence briefings;

c. If the information may be relevant to a potential violation of a civil or criminal law, rule, regulation, order, policy, or license; or

d. Where there is a reasonable need to accomplish a valid law enforcement purpose.

POLICIES AND PRACTICES FOR STORAGE OF RECORDS:

Records in this system are stored on a secure server as electronic records.

POLICIES AND PRACTICES FOR RETRIEVAL OF RECORDS:

Records may be retrieved by name or other identifying aspects.

POLICIES AND PRACTICES FOR RETENTION AND DISPOSAL OF RECORDS:

The retention for these records is currently under review. Until review is completed, the records in the system will not be destroyed.

ADMINISTRATIVE, TECHNICAL, AND PHYSICAL SAFEGUARDS:

Electronic files are stored on secure servers. The system has the ability to track individual user actions within the system. The audit and accountability controls are based on NIST and Board standards which, in turn, are based on applicable laws and regulations. The controls assist in detecting security violations and performance or other issues in the system. Access to the system is restricted to authorized users within the Federal Reserve System who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) Contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—

Secretary of the Board, Board of Governors of the Federal Reserve System, 20th Street and Constitution Avenue NW, Washington, DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

Certain portions of this system of records may be exempt from 5 U.S.C. 552(a)(c)(3), (d), (e)(1), (e)(4)(G), (H), and (I), and (f) of the Privacy Act pursuant to 5 U.S.C. 552a(k)(2).

HISTORY:

None.

Board of Governors of the Federal Reserve System.
Michele Taylor Fennell,
Assistant Secretary of the Board.

[FR Doc. 2020-06507 Filed 3-31-20; 8:45 am]

BILLING CODE P